DEPARTMENT OF COMMERCE

International Trade Administration

[A-533-810]

Stainless Steel Bar from India: Final Results of Antidumping Duty Administrative Review; 2021-2022

AGENCY: Enforcement and Compliance, International Trade Administration, Department of Commerce.

SUMMARY: The U.S. Department of Commerce (Commerce) determines that producers/exporters of stainless steel bar (SS Bar) did not make sales at prices below normal value during the period of review (POR), February 1, 2021, through January 31, 2022.

DATES: Applicable September 8, 2023.

FOR FURTHER INFORMATION CONTACT: Mary Kolberg, AD/CVD Operations, Office I, Enforcement and Compliance, International Trade Administration, U.S. Department of Commerce, 1401 Constitution Avenue NW, Washington DC 20230; telephone: (202) 482-1785.

SUPPLEMENTARY INFORMATION:

Background

On March 7, 2023, Commerce published in the Federal Register the Preliminary Results of the 2021-2022 administrative review of the antidumping duty order on SS Bar from India.¹ We invited interested parties to comment on the Preliminary Results. For a complete description of the events that occurred since the Preliminary Results, see the Issues and Decision Memorandum.² Commerce conducted this review in accordance with section 751(a) of the Tariff Act of 1930, as amended (the Act).

¹ See Stainless Steel Bar from India: Preliminary Results of Antidumping Duty Administrative Review; 2021-2022, 88 FR 14118 (March 7, 2023) (Preliminary Results), and accompanying Preliminary Decision Memorandum (PDM).

² See Memorandum, “Issues and Decision Memorandum for the Final Results of the Antidumping Duty Administrative Review of Stainless Steel Bar from India; 2021-2022,” dated concurrently with, and hereby adopted by, this notice (Issues and Decision Memorandum).

Scope of the Order ³

³ See Antidumping Duty Orders: Stainless Steel Bar from Brazil, India and Japan, 60 FR 9661 (February 21, 1995) (Orders).

The products covered by the Order are SS Bar. A full description of the scope of the Order is contained in the Issues and Decision Memorandum.⁴

⁴ See Issues and Decision Memorandum.

Analysis of Comments Received

All issues raised in the case and rebuttal briefs filed by parties in this review are listed in Appendix I to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on our analysis of the comments received, we removed certain price deductions made after the time of sale when calculating net normal value for Laxcon Steels Limited, and its affiliates, Ocean Steels Private Limited, Metlax International Private Limited, Parvati Private Limited, and Mega Steels Private Limited (collectively, Laxcon).⁵

⁵ Id. at Comment 8.

Final Results of Review

We determine that the following weighted-average dumping margins exists for the period February 1, 2021, through January 31, 2022:

Producer/exporter | Weighted- average dumping margin (percent)
Laxcon Steels Limited, and its affiliates, Ocean Steels Private Limited, Metlax International Private Limited, Parvati Private Limited, and Mega Steels Private Limited ⁶ | 0.00
Bhansali Bright Bars Pvt. Ltd ⁷ | 0.00
Bhansali Inc | 0.00
Venus Wire Industries Pvt. Ltd., and its affiliates, Precision Metals, Hindustan Inox Ltd., and Sieves Manufacturers (India) Pvt. Ltd ⁸ | 0.00

Disclosure

⁶ Collectively, these companies are known as Laxcon.

⁷ See Preliminary Results at 14119 for discussion on the rate for companies not individually examined. In accordance with section 735(c)(5)(B) of the Act, we are assigning the zero percent rate calculated for the mandatory respondent, Laxcon.

⁸ Collectively, these companies are known as Venus Group.

We intend to disclose the calculations performed for these final results of review to the parties within five days after public announcement, in accordance with 19 CFR 351.224(b).

Assessment Rates

Pursuant to section 751(a)(2)(C) of the Act and 19 CFR 351.212(b), Commerce shall determine, and CBP shall assess, antidumping duties on all appropriate entries of subject merchandise in accordance with the final results of this review. For any individually examined respondents whose weighted-average dumping margin is above de minimis, we calculated importer-specific ad valorem duty assessment rates based on the ratio of the total amount of antidumping duties calculated for the examined sales to the total entered value of the examined sales to that importer, and we will instruct CBP to assess antidumping duties on all appropriate entries covered by this. Where either the respondent's weighted-average dumping margin is zero or de minimis within the meaning of 19 CFR 351.106(c)(1), or an importer-specific assessment rate is zero or de minimis, we will instruct CBP to liquidate the appropriate entries without regard to antidumping duties.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review in the Federal Register, as provided for by section 751(a)(2) of the Act: (1) the cash deposit rate for companies subject to this review will be the rates established in these final results of the review; (2) for merchandise exported by producers or exporters not covered in this review but covered in a prior segment of the proceeding, the cash deposit rate will continue to be the company-specific rate published for the most recent period; (3) if the exporter is not a firm covered in this review, a prior review, or the original investigation but the producer is, then the cash deposit rate will be the rate established for the most recent period for the producer of the merchandise; (4) the cash deposit rate for all other producers or exporters will continue to be 12.45 percent,⁹ the all-others rate established in the investigation. These cash deposit requirements, when imposed, shall remain in effect until further notice.

⁹ See Order at 66921.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: August 31, 2023.
Lisa W. Wang,
Assistant Secretary for Enforcement and Compliance.

Appendix I

List of Topics Discussed in the Issues and Decision Memorandum

I. Summary

II. Background

III. Scope of the Order

IV. Changes From the Preliminary Results

V. Discussion of the Issues

Comment 1: Whether Laxcon Correctly Reported the Grade Code of Individual Control Numbers (CONNUMs) or Withheld Information

Comment 2: Whether Laxcon Correctly Reported the Heat Treatment Codes of Individual CONNUMS or Withheld Information

Comment 3: Whether Laxcon Failed to Respond to Commerce's Request for Reconciliation of U.S. Entry Data and Incorrectly Reported Sales in the Home Market Database

Comment 4: Whether Laxcon Withheld Documentation for the U.S. Sample Sale

Comment 5: Whether Laxcon Withheld the Identities of Affiliated Parties

Comment 6: Whether Laxcon Withheld Information Regarding Services Provided by Its Affiliate.

Comment 7: Whether Laxcon Withheld the Requested Revised U.S. and Home Market Sales Files

Comment 8: Whether Commerce Should Allow Adjustments Reported by Laxcon in Its Home Market Sales Database

Comment 9: Whether Commerce Should Apply Total Adverse Facts Available to Laxcon

VI. Recommendation

[FR Doc. 2023-19390 Filed 9-7-23; 8:45 am]

BILLING CODE 3510-DS-P